FEDERAL RESERVE SYSTEM

Formations of, Acquisitions by, and Mergers of Bank Holding Companies; Correction

This notice corrects a notice (FR Doc. 01-26863) published on page 54011 of the issue for October 25, 2001.

Under the Federal Reserve Bank of San Francisco heading, the entry for Wells Fargo & Company, San Francisco, California, is revised to read as follows:

1. Wells Fargo & Company, San Francisco, California; to acquire 100 percent of the voting shares of Texas Financial Bancorporation, Inc., Minneapolis, Minnesota; and thereby indirectly acquire voting shares of Marquette Bank Monmouth, Monmouth, Illinois; The Bank of Santa Fe, Santa Fe, New Mexico; Delaware Financial, Inc., Wilmington, Delaware; First National Bank of Texas, Decatur, Texas; First State Bank of Texas, Denton, Texas; and to acquire Marquette Bank, N.A., Rogers, Minnesota; Marquette Capital Bank, N.A., Wayzata, Minnesota; The First National Bank and Trust Company of Baraboo, Baraboo, Wisconsin; Meridian Capital Bank, N.A., Milwaukee, Wisconsin; and Marquette Bank Morrison, Morrison, Illinois, from Marquette Bancshares, Inc., Minneapolis, Minnesota.

In connection with this application, Applicant also has applied to acquire Marquette Financial Group, Inc., Minneapolis, Minnesota, and thereby engage in securities brokerage and investment advisory activities, pursuant to § 225.28(b)(6) and (7) of Regulation Y.

Comments on this application must be received by November 19, 2001.

Board of Governors of the Federal Reserve System, October 30, 2001.
Robert deV. Frierson,
Deputy Secretary of the Board.

[FR Doc. 01-27661 Filed 11-2-01; 8:45 am]

BILLING CODE 6210-01-S